DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Pacific Islands Logbook Family of Forms.

OMB Control Number: 0648-0214.

Form Number(s): NA.

Type of Request: Regular submission (revision and extension of a currently approved information collection).

Number of Respondents: 280.

Average Hours per Response: Logbooks and sales reports, between 5 and 30 minutes; experimental fishing report, 1 hour.

Burden Hours: 1,742.

Needs and Uses: This request is for revision and extension of a currently approved information collection.

Fishermen in Federally-managed fisheries in the western Pacific region are required to provide certain information about their fishing activities, catch, and interactions with protected species by submitting reports to National Marine Fisheries Service (NMFS), per 50 CFR part 665. These data are needed to determine the condition of the stocks and whether the current management measures are having the intended effects, to evaluate the benefits and costs of changes in management measures, and to monitor and respond to accidental takes of endangered and threatened species, including seabirds, sea turtles, and marine mammals.

Revisions: Observer notices and meetings are now covered under OMB Control No. 0648-0593, Observer Programs' Information That Can Be Gathered Only Through Questions, approved by OMB in 2009. In addition, Commonwealth of the Northern Mariana Islands Commercial Bottomfish information collections are now under OMB Control No. 0648-0584, Permitting and Vessel Identification Requirements for the Commercial Bottomfish Fishery in the Commonwealth of the Northern Mariana Islands, approved in 2009.

Affected Public: Business or other for-profit organizations.

Frequency: On occasion.

Respondent's Obligation: Mandatory.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: March 22, 2012.
Gwellnar Banks,
Management Analyst, Office of the Chief Information Officer.

[FR Doc. 2012-7379 Filed 3-27-12; 8:45 am]

BILLING CODE 3510-22-P